DEPARTMENT OF ENERGY

Federal Energy Regulatory Commission

[Docket No. CP00-165-000]

Transcontinental Gas Pipe Line Corporation; Notice of Application

April 11, 2000.

Take notice that on April 3, 2000, Transcontinental Gas Pipe Line Corporation (Transco), P.O. Box 1396, Houston, Texas 77251, filed in Docket No. CP00-165-000 an application pursuant to Section 7(c) of the Natural Gas Act for a certificate of public convenience and necessity authorizing Transco's Sundance Expansion Project (Sundance), located in Alabama, Georgia, Mississippi, and North Carolina, an incremental expansion of Transco's existing pipeline system which will provide 236,383 dekatherms per day (dts/d) of new firm transportation capacity to serve increased market demand in the Southeastern region of the United States by a proposed in-service date of May 1, 2002, all as more fully set forth in the application which is on file with the Commission and open to public inspection. This filing may be viewed on the web at http://www.ferc.fed.us/online/rims.htm (call 202-208-2222 for assistance).

Transco states that an order to create the firm transportation capacity for the Sundance project, it proposes to construct and operate the following facilities on its mainline pipeline system:

1. 12.03 miles of 42-inch diameter pipeline loop from milepost (MP) 772.81 on Transco's mainline in Clarke County, Mississippi to MP 784.84 in Choctaw County, Alabama (the DeSoto loop).

2. 9.36 miles of 48-inch diameter pipeline loop from MP 851.46 on Transco's mainline in Dallas, County, Alabama to MP 860.82 in Perry County, Alabama (the Summerfield loop).

3. Piping modifications at Transco's existing Compressor Station No. 105, which is located in Coosa County, Alabama.

4. 8.97 miles of 42-inch diameter pipeline loop from MP 1247.03 on Transco's mainline in Cleveland County, North Carolina to MP 1256.00 in Gaston County, North Carolina (the Kings Mountain loop).

5. 7.67 miles of 42-inch diameter pipeline loop from MP 1287.11 on Transco's mainline to MP 1294.78 in Iredell County, North Carolina (the Mooresville loop).

6. The installation of one new 18,975 horsepower compressor unit, and the uprating of an existing 15,000 horsepower compressor unit, and an existing 16,500 horsepower compressor unit to 18,975 horsepower each at Transco's existing Compressor Station No. 115, which is located in Coweta County, Georgia. The proposed Sundance project will increase the total certificated compression at this station to 56,425 horsepower.

7. The installation of one new 15,000 horsepower compressor unit, and the uprating of an existing 4,000 horsepower compressor unit to 4,800 horsepower at Transco's existing Compressor Station No. 125, which is located in Walton County, Georgia. The proposed Sundance project will increase the total certificated compression at this station to 38,800 horsepower.

8. The installation of gas coolers at Transco's existing Compressor Station No. 150, which is located in Iredell County, North Carolina.

Transco declares that the total estimated cost for the proposed facilities will be $134.67 million.

Transco states that the construction and operation of the proposed facilities will not have a significant impact on human health or the environment. Transco asserts that the proposed facilities, for the most part, will be installed either within or immediately adjacent to existing pipeline or utility rights-of-way and Transco's existing compressor station yards. Transco certifies that the proposed facilities will be designed, constructed, operated, and maintained in accordance with all applicable safety standards and plans for maintenance and inspection.

Any questions regarding the application should be directed to Toi Anderson, at (713) 215-4540 and (1-888) 214-8475, Transcontinental Gas Pipe Line Corporation, P.O. Box 1396, Houston, Texas 77251.

Transco states that it held an open season from April 16 through June 1, 1999, during which it received written expressions of interest from potential shippers desiring new firm transportation service to be made available as a result of the Sundance project. As a result of the open season, Transco declares that it executed precedent agreements with the following twelve shippers: Carolina Power & Light Company (75,000 dts/d); City of Buford, Georgia (2,588 dts/d); Clinton-Newberry Natural Gas Authority, South Carolina (2,000 dts/d); City of Commerce, Georgia (207 dts/d); City of Covington, Georgia (776 dts/d); City of Fort Hill, South Carolina (8,000 dts/d); City of Fountain Inn, South Carolina (3,500 dts/d); City of Greer, South Carolina (2,500 dts/d); City of Sugar Hill, Georgia (518 dts/d); City of Toccoa, Georgia (1,035 dts/d); City of Winder, Georgia (259 dts/d); and Southern Company Services, Inc. (140,000 dts/d). Transco states that 100% of the firm capacity to be created by the Sundance project is subscribed to by these twelve shippers.

Transco declares that the firm transportation service under the Sundance project will be provided under Rate Schedule FT of Transco's FERC Gas Tariff, Volume No. 1, and Transco's blanket certificate under Part 284(G) of the Commission's regulations. Transco states that the proposed cost-based recourse rate for the Sundance project is based on a straight fixed-variable rate design methodology and an increment cost of service.

Transco requests that the Commission issue a preliminary determination on the non-environmental aspects of this proposal by September 1, 2000, and a final order granting the authorizations by April 1, 2001.

Any person desiring to be heard or to make any protest with reference to said Application should on or before May 2, 2000, file with the Federal Energy Regulatory Commission, 888 First Street, NE, Washington, DC 20426, a motion to intervene or a protest in accordance with the requirements of the Commission's Rule of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that pursuant to the authority contained in and subject to the jurisdiction conferred upon the Commission by Sections 7 and 15 of the Natural Gas Act and the Commission's Rules and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

Linwood A. Watson, Jr.,
Acting Secretary.

[FR Doc. 00-9474 Filed 4-14-00; 8:45 am]

BILLING CODE 6717-01-M